NUCLEAR REGULATORY COMMISSION

Hydro Resources, Inc.; Notice of Reconstitution

[Docket No. 40-8968—ML; ASLBP No. 95-706-01-ML]

Pursuant to the authority contained in 10 CFR §§ 2.721 and 2.1207, the Presiding Officer in the captioned 10 CFR Part 2, Subpart L proceeding is hereby replaced by appointing Administrative Judge Thomas S. Moore as Presiding Officer in place of Administrative Judge Peter B. Bloch.

All correspondence, documents and other material shall be filed with the Presiding Officer in accordance with 10 CFR § 2.1203 (1997). The address of the new Presiding Officer is: Administrative Judge Thomas S. Moore, Atomic Safety and Licensing Board Panel, U.S. Nuclear Regulatory Commission, Washington, DC 20555-0001.

This Board reconstitution order is issued pursuant to the authority of the Chief Administrative Judge of the Atomic Safety and Licensing Board Panel.

Issued at Rockville, Maryland, this 3rd day of February 2000.
G. Paul Bollwerk III,
Chief Administrative Judge, Atomic Safety and Licensing Board Panel.

[FR Doc. 00-3098 Filed 2-9-00; 8:45 am]

BILLING CODE 7590-01-P